DEPARTMENT OF COMMERCE

National Oceanic and Atmospheric Administration

[I.D. 040600E]

Gulf of Mexico Fishery Management Council; Public Meetings

AGENCY: National Marine Fisheries Service (NMFS), National Oceanic and Atmospheric Administration (NOAA), Commerce.

ACTION: Notice of public meetings.

SUMMARY: The Gulf of Mexico Fishery Management Council (Council) will convene public meetings of the Dolphin and Wahoo Advisory Panel (AP) and Scientific and Statistical Committees (SSC).

DATES: The AP meeting is scheduled to begin at 8:30 a.m. on May 1, 2000 and will conclude by 3 p.m. The SSC meeting is scheduled to begin at 8:30 a.m. on May 3, 2000 and will conclude by 5 p.m.

ADDRESSES: Both meetings will be held at the Tampa Airport Hilton Hotel, 2225 Lois Avenue, Tampa, FL 33607; telephone: 813-877-6688.

Council address: Gulf of Mexico Fishery Management Council, 3018 U.S. Highway 301 North, Suite 1000, Tampa, FL 33619.

FOR FURTHER INFORMATION CONTACT: Dr. Richard Leard, Senior Fishery Biologist, Gulf of Mexico Fishery Management Council; telephone: 813-228-2815.

SUPPLEMENTARY INFORMATION: The Dolphin and Wahoo AP and SSCs will convene to review an “Exploratory Assessment of Dolphinfish, Coryphaena hippurus, based on U.S. Landings from the Atlantic Ocean and Gulf of Mexico” that was prepared by NMFS. The Dolphin and Wahoo AP will also review reports by the Mackerel Stock Assessment Panel (MSAP) and Socioeconomic Panel (SEP) regarding this assessment.

The Dolphin and Wahoo AP previously reviewed a draft of the Dolphin and Wahoo Fishery Management Plan (FMP) that was prepared by the South Atlantic, Gulf, and Caribbean Fishery Management Councils. Based on the review of these additional documents regarding dolphin, the Dolphin and Wahoo AP may make additional recommendations to the Council regarding the management of dolphin.

The SSC will review the same information and formulate their recommendations based on a scientific perspective.

Although other non-emergency issues not on the agendas may come before the AP/SSC for discussion, in accordance with the Magnuson-Stevens Fishery Conservation and Management Act, those issues may not be the subject of formal action during these meetings. Actions of the AP/SSC will be restricted to those issues specifically identified in the agendas and any issues arising after publication of this notice that require emergency action under Section 305(c) of the Magnuson-Stevens Act, provided the public has been notified of the Council's intent to take action to address the emergency.

Copies of the agenda can be obtained by calling 813-228-2815.

Special Accommodations

This meeting is physically accessible to people with disabilities. Requests for sign language interpretation or other auxiliary aids should be directed to Anne Alford at the Council (see ADDRESSES) by April 24, 2000.

Dated: April 7, 2000.
Richard W. Surdi,
Acting Director, Office of Sustainable Fisheries, National Marine Fisheries Service.

[FR Doc. 00-9561 Filed 4-14-00; 8:45 am]

BILLING CODE 3510-22-F